DEPARTMENT OF THE INTERIOR

Bureau of Indian Affairs

Land Acquisitions; Little Traverse Bay Bands of Odawa Indians of Michigan

AGENCY: Bureau of Indian Affairs, Interior.

ACTION: Notice of final agency determination to take land into trust under 25 CFR part 151.

SUMMARY: The Assistant Secretary—Indian Affairs made a final agency determination to acquire approximately 96 acres, more or less, of land into trust for the Little Traverse Bay Bands of Odawa Indians of Michigan on July 18, 2003. This notice is published in the exercise of authority delegated by the Secretary of the Interior to the Assistant Secretary—Indian Affairs by 209 Departmental Manual 8.1.

SUPPLEMENTARY INFORMATION: This notice is published to comply with the requirement of 25 CFR part 151.12(b) that notice be given to the public of the Secretary's decision to acquire land in trust at least 30 days prior to signatory acceptance of the land into trust. The purpose of the 30-day waiting period in 25 CFR part 151.12(b) is to afford interested parties the opportunity to seek judicial review of final administrative decisions to take land in trust for Indian tribes and individual Indians before transfer of title to the property occurs. On July 18, 2003, the Assistant Secretary—Indian Affairs decided to accept approximately 96 acres, more or less, of land into trust for the Little Traverse Bay Bands of Odawa Indians of Michigan under the authority of the Little Traverse Bay Bands of Odawa Indians Act, 25 U.S.C. 1300k-1300k-7 (1994), which also restored Federal recognition to the Little Traverse Bay Bands of Odawa Indians and the Little River Band of Ottawa Indians. In a memorandum dated November 12, 1997, the Associate Solicitor, Division of Indian Affairs, determined that the Little Traverse Bay Bands is a restored tribe within the meaning of Section 20 of the Indian Gaming Regulatory Act (IGRA), 25 U.S.C. 2719 and that the trust acquisition of the parcel known as the “Mackinaw City Tract” qualified as restored lands. The Mackinaw Tract is within Emmet County. On August 5, 1999, the Associate Solicitor, Division of Indian Affairs further concluded that the site of the temporary Victories casino qualified as “restored” land within the meaning of section 20 of IGRA, because it is within Emmet County and is exempt from the general prohibition against gaming on land acquired in trust after October 17, 1988. On March 24, 2003, the Field Solicitor, Twin Cities concluded that pursuant to 25 U.S.C. 1300k-4(a) the acquisition of land located in Emmet County, Michigan for the Little Traverse Bay Bands is a mandatory acquisition for purposes of 25 CFR 151.10 and is considered “restored” land for purposes of 25 U.S.C. 2719(b)(1)(B)(iii) of IGRA.

The land referred to in Commitment No. 60016179, situated in the Township of Resort, County of Emmet, State of Michigan is described as follows:

The Northeast ¼ of the Southeast ¼ and the South one-half of the Northwest ¼ of the Southeast ¼, all in Section 12, Township 34 North, Range 6 West, except: Commencing at the East ¼ corner of Section 12, Township 34 North, Range 6 West; Resort Township, Emmet County, Michigan; thence South along the East line of said Section 12, for a distance of 427.29 feet; thence West 33.00 feet to a concrete monument on the West edge of Greenwood Cemetery Road, which is the point of beginning; thence West 217.00 feet to a concrete monument, thence South 160.00 feet to a concrete monument; thence East 217.00 feet to a concrete monument on the West edge of Greenwood Cemetery Road; thence North 160.00 feet to the point of beginning.

The land referred to in Commitment No. 60016178, situated in the Township of Resort, County of Emmet, State of Michigan is described as follows:

The Southeast ¼ of the Southeast ¼ of Section 12, Township 34 North, Range 6 West.

The property consists of approximately 96 acres located in Emmet County, Michigan.

FOR FURTHER INFORMATION CONTACT: George Skibine, Office of Indian Gaming Management, Bureau of Indian Affairs, MS-4543 MIB, 1849 C Street, NW., Washington, DC 20240; Telephone (202) 219-4066.

Dated: July 18, 2003.
Aurene M. Martin,
Assistant Secretary—Indian Affairs.

[FR Doc. 03-20935 Filed 8-14-03; 8:45 am]

BILLING CODE 4310-4N-P